DEPARTMENT OF HEALTH AND HUMAN SERVICES

Centers for Disease Control and Prevention

[60Day-16-16AXB; Docket No. CDC-2016-0076]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on Information Collection on Feasibility of Social Distancing Measures in K-12 Schools in the United States, which is being conducted to determine if the implementation of social distancing strategies other than school closures can be accomplished without causing major detrimental effects to ongoing education activities.

DATES: Written comments must be received on or before October 11, 2016.

ADDRESSES: You may submit comments, identified by Docket No. CDC-2016-0076 by any of the following methods:

• Federal eRulemaking Portal: Regulations.gov. Follow the instructions for submitting comments.

• Mail: Jeffrey M. Zirger, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Feasibility of Social Distancing Measures in K-12 Schools in the United States—New—National Center for Emerging and Zoonotic Infectious Diseases (NCEZID), Division of Global Migration and Quarantine (DGMQ), Centers for Disease Control and Prevention (CDC).

Background and Brief Description

The Centers for Disease Control and Prevention (CDC), National Center for Emerging and Zoonotic Infectious Diseases (NCEZID), Division of Global Migration and Quarantine (DGMQ), requests approval of a new information collection to identify social distancing strategies to reduce person-to-person contact among students and staff inK-12 schools that are implementable without causing major detrimental effects to ongoing education activities. CDC is requesting a one-year approval to collect information.

The information collection for which approval is sought is in accordance with DGMQ/CDC's mission to reduce morbidity and mortality in mobile populations, and to prevent the introduction, transmission, or spread of communicable diseases within the United States. Insights gained from this information collection will assist in the planning and implementation of CDC Pre-Pandemic Community Mitigation Guidance on the use of school-based measures to slow transmission during an influenza pandemic.

School-aged children are often the main introducers and an important transmission source of influenza and other respiratory viruses in their families, and school-based outbreaks frequently pre-date wide-spread influenza transmission in the surrounding communities. Therefore, infection control measures undertaken to reduce virus transmission among children at schools may also help prevent or postpone influenza outbreaks in communities. In respiratory transmission of influenza, proximity to the person with influenza plays a significant role. Strategies that increase physical distance between students and/or reduce the duration of person to person contact in school settings may, theoretically, be effective in slowing influenza transmission. There have been no evaluations to date of feasibility of implementing social distancing measures other than school closures. Therefore, there is a need to research alternative social distancing strategies that can help reduce influenza transmission in schools while minimizing social and economic burdens on the community.

CDC staff proposes that the information collection for this package will target senior educators in each of the 10 HHS regions. CDC will collect qualitative data on current knowledge, attitudes, and practices with regard to organizing and delivering K-12 instruction in ways that help increase space between students and/or reduce daily duration of in-person instruction, while preserving the normal education process; this will be accomplished through focus group discussions.

Findings obtained from this information collection will be used to inform the update CDC's Pre-pandemic Community Mitigation Guidance on the implementation of school related measures to prevent the spread of influenza. This Guidance is used as an important planning and reference tool for both State and local health departments in the United States.

There is no cost to respondents other than their time. The estimated annualized burden hours for this data collection are 1,400 hours.

Estimated Annualized Burden Hours
Type of respondents | Form name | Number of respondents | Number of responses per respondent | Average burden per response (in hours) | Total burden (in hours)
Senior educators (e.g. school principals, superintendents, teachers, senior leaders from state agencies, etc.) | Social Distancing Questionnaire Form | 700 | 1 | 2 | 1,400
Total |  |  |  |  | 1,400

Jeffrey M. Zirger,
Health Scientist, Acting Chief, Information Collection Review Office, Office of Scientific Integrity, Office of the Associate Director for Science, Office of the Director, Centers for Disease Control and Prevention.

[FR Doc. 2016-18939 Filed 8-9-16; 8:45 am]

BILLING CODE 4163-18-P